DEPARTMENT OF HOMELAND SECURITY

Federal Emergency Management Agency

[Docket ID FEMA-2024-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP).

DATES: The date of June 6, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
San Luis Obispo County, California and Incorporated Areas
Docket No.: FEMA-B-2255
City of Arroyo Grande | City Hall, 300 East Branch Street, Arroyo Grande, CA 93420.
City of El Paso de Robles | City Hall, 1000 Spring Street, Paso Robles, CA 93446.
City of Grover Beach | City Hall, 154 South Eighth Street, Grover Beach, CA 93433.
City of Pismo Beach | City Hall, 760 Mattie Road, Pismo Beach, CA 93449.
City of San Luis Obispo | City Hall, 990 Palm Street, San Luis Obispo, CA 93401.
Unincorporated Areas of San Luis Obispo County | San Luis Obispo County Government Center, 1055 Monterey Street, Room D-430, San Luis Obispo, CA 93408.
Marquette County, Michigan (All Jurisdictions)
Docket No.: FEMA-B-2227, FEMA-B-2323
Charter Township of Chocolay | Chocolay Charter Township Hall, 5010 US Highway 41 South, Marquette, MI 49855.
Charter Township of Marquette | Charter Township Hall, 1000 Commerce Drive, Marquette, MI 49855.
City of Ishpeming | City Hall, 100 East Division Street, Ishpeming, MI 49849.
City of Marquette | City Hall, 300 West Baraga Avenue, Marquette, MI 49855.
City of Negaunee | City Hall, 319 West Case Street, Negaunee, MI 49866.
Township of Champion | Township Hall, 5317 US Highway 41 West, Champion, MI 49814.
Township of Ely | Ely Township Hall, 1555 County Road 496, Ishpeming, MI 49849.
Township of Ishpeming | Township Hall, 1575 US Highway 41 West, Ishpeming, MI 49849.
Township of Negaunee | Township Hall, 42 East State Highway M35, Negaunee, MI 49866.
Township of Powell | Powell Township Hall, 101 Bensinger Street, Big Bay, MI 49808.
Township of Sands | Sands Township Office Complex, 987 State Highway M-553, Gwinn, MI 49841.
Township of Skandia | Township Hall, 224 Kreiger Drive, Skandia, MI 49885.
Township of Tilden | Tilden Township Hall, 3145 County Road PG, Ishpeming, MI 49849.
Burleigh County, North Dakota and Incorporated Areas
Docket No.: FEMA-B-2306
City of Bismarck | City Hall, 221 North 5th Street, Bismarck, ND 58501.
City of Lincoln | City Hall, 74 Santee Road, Lincoln, ND 58504.
City of Wilton | City Hall, 121 Dakota Avenue, Wilton, ND 58579.
City of Wing | City Office, 211 Main Street, Wing, ND 58494.
Unincorporated Area of Burleigh County | Burleigh County Offices, 221 North 5th Street, Bismarck, ND 58501.
Miner County, South Dakota and Incorporated Areas
Docket No.: FEMA-B-2306
City of Carthage | Miner County Clerk of Courts, 401 North Main Street, Suite 100, Howard, SD 57349.
City of Howard | Miner County Clerk of Courts, 401 North Main Street, Suite 100, Howard, SD 57349.
Unincorporated Areas of Miner County | Miner County Clerk of Courts, 401 North Main Street, Suite 100, Howard, SD 57349.
Hawkins County, Tennessee and Incorporated Areas
Docket No.: FEMA-B-2307
City of Church Hill | City Hall, 300 East Main Boulevard, Church Hill, TN 37642.
Town of Mount Carmel | Building Inspector's Office, 100 Main Street East, Mount Carmel, TN 37645.
Unincorporated Areas of Hawkins County | Hawkins County Mayor's Office, Administration Building, 150 East Washington Street, Rogersville, TN 37857.
City of Falls Church, Virginia (Independent City)
Docket No.: FEMA-B-2134 and FEMA-B-2266
City of Falls Church | City Hall, The Harry E. Wells Municipal Building, 300 Park Avenue, Falls Church, VA 22046.

[FR Doc. 2024-01627 Filed 1-26-24; 8:45 am]

BILLING CODE 9110-12-P